DEPARTMENT OF THE INTERIOR

Council of the Inspectors General on Integrity and Efficiency

Senior Executive Service Performance Review Board Membership

AGENCY: Council of the Inspectors General on Integrity and Efficiency.

ACTION: Notice.

SUMMARY: This notice sets forth the names and titles of the current membership of the Council of the Inspectors General on Integrity and Efficiency (CIGIE) Performance Review Board as of October 1, 2010.

DATES: Effective Date: October 1, 2010.

FOR FURTHER INFORMATION CONTACT: Individual Offices of Inspectors General at the telephone numbers listed below.

SUPPLEMENTARY INFORMATION:

I. Background

The Inspector General's Act of 1978, as amended, created the Offices of Inspectors General as independent and objective units to conduct and supervise audits and investigations relating to Federal programs and operations. The Inspector General Reform Act of 2008, established the Council of the Inspectors General on Integrity and Efficiency (CIGIE) to address integrity, economy, and effectiveness issues that transcend individual Government agencies; and increase the professionalism and effectiveness of personnel by developing policies, standards, and approaches to aid in the establishment of a well trained and highly skilled workforce in the Offices of Inspectors General. The CIGIE is an interagency council whose executive chair is the Deputy.

II. CIGIE Performance Review Board

Under 5 U.S.C. 4314(c)(1)-(5), and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the Council of the Inspectors General on Integrity and Efficiency Performance Review Board, as of October 1, 2009, are as follows:

Agency for International Development

Phone Number: (202) 712-1150.

CIGIE Liaison-Thereasa L. Lyles, (202) 7121 393.

Michael G. Carroll—Deputy Inspector General.

Joseph Farinella (SFS)—Assistant Inspector General for Audit.

Melinda Dempsey—Deputy Assistant Inspector General for Audit.

Howard I. Hendershot—Assistant Inspector General for Investigations.

Alvin A. Brown—Assistant Inspector General, Millennium Challenge Corporation.

Lisa Goldfluss—Legal Counsel.

Department of Agriculture

Phone Number: (202) 720-8001.

CIGIE Liaison-Cheryl Viani, (202) 720-8001.

David R. Gray—Deputy Inspector General.

Robert W. Young—Special Assistant to the Inspector General for the Recovery Act.

Gilroy Harden—Assistant Inspector General for Audit.

Rod DeSmet—Deputy Assistant Inspector General for Audit.

Tracy A. LaPoint—Deputy Assistant Inspector General for Audit.

Karen L. Ellis—Assistant inspector General for Investigations.

Kathy C. Horsley—Deputy Assistant Inspector General for Investigations.

Suzanne M. Murrin—Assistant Inspector General for Management.

Department of Commerce

Phone Number: (202) 482-4661.

CIGIE Liaison-Lisa Allen, (202) 482-5422.

Wade Green, Jr. Counsel to the Inspector General.

Judith J. Gordon—Associate Deputy Inspector General.

Ann E. Eilers—Principal Assistant Inspector General for Audit and Evaluation.

Allen Crawley—Assistant Inspector General for Systems Acquisition and IT Security.

Ronald C. Prevost—Assistant Inspector General for Economic and Statistical Program Assessment.

Scott Berenberg—Assistant Inspector General for Investigations.

Richard C. Beitel, Jr.—Assistant Inspector General for Whistleblower Protection.

Department of Defense

Phone Number: (703) 604-8324.

CIGIE Liaison—John R. Crane, (703) 604-8324.

Michael Child—Chief of Staff.

James Burch—Deputy Inspector General for Investigations.

Patricia Brannin—Deputy Inspector General for Intelligence.

Donald Horstman—Deputy Inspector General for Administrative Investigations.

John Crane—Assistant Inspector General for Communications and Congressional Liaison.

Anna Gershman—Acting Assistant Inspector General for the Office of Professional Responsibility.

Department of Education

Phone Number: (202) 245-6900.

CIGIE Liaison—Ten Clark, (202) 245-6340.

Mary Mitchelson—Deputy Inspector General.

Wanda Scott—Assistant Inspector General for Evaluations, Inspections and Management Services.

Keith West—Assistant Inspector General for Audit Services.

Patrick Howard—Deputy Assistant Inspector General for Audit Services.

William Hamel—Assistant Inspector General for Investigative Services.

Charles Coe—Assistant Inspector General for Information Technology and Computer Crimes Investigation.

Marta Erceg—Counsel to the Inspector General.

Department of Energy

Phone Number: (202) 586-4393.

CIGIE Liaison—Juston Fontaine, (202) 586-1959.

John Hartman—Assistant Inspector General for Investigations.

Rickey Hass—Deputy Inspector General for Audit Services.

Sanford Parnes—Counsel to the Inspector General.

George Collard—Assistant Inspector General for National Security and Energy Audits.

Department of Health and Human Services

Phone Number: (202) 619-3148.

CIGIE Liaison—Sheri Denkensohn, (202) 205-9492 and Elise Stein, (202) 619-2686.

Joseph J. Green—Assistant Inspector General for Financial Management and Regional Operations.

Paul R. Johnson—Assistant Inspector General for Management and Policy (Chief Operating Officer).

Donald E. Meeks—Assistant Inspector General for Investigations.

Stuart E. Wright—Deputy Inspector General for Evaluation and Inspections.

Department of Homeland Security

Phone Number: (202) 254-4100.

CIGIE Liaison—Denise S. Johnson, (202) 254-4100.

Charles K. Edwards—Deputy Inspector General.

Matt Jadacki—Assistant Inspector General for Emergency Management Oversight.

Mark McLachlan—Deputy Assistant Inspector General for Emergency Management Oversight.

Richard N. Reback—Counsel to the Inspector General.

Anne L. Richards—Assistant Inspector General for Audits.

Edward M. Stulginsky—Deputy Assistant Inspector General for Audits.

Carlton I. Mann—Assistant Inspector General for Inspections.

Thomas M. Frost—Assistant Inspector General for Investigations.

James Gaughran—Deputy Assistant Inspector General for Investigations.

Frank Deffer—Assistant Inspector General for Information Technology.

Charles K. Edwards—Acting Assistant Inspector General for Management.

Department of Housing and Urban Development

Phone Number: (202) 708-0430.

CIGIE Liaison—Helen Albert, (202) 708-0614, Ext. 8187.

James A. Heist—Assistant Inspector General for Audit.

John McCarty—Deputy Assistant Inspector General for Inspections and Evaluations.

Lester Davis—Deputy Assistant Inspector General for Investigations.

Randy McGinnis—Deputy Assistant Inspector General for Audit.

Brenda Patterson—Deputy Assistant Inspector General for Audit.

Helen Albert—Deputy Assistant Inspector General for Management and Policy.

Department of the Interior

Phone Number: (202) 208-5745.

CIGIE Liaison—Deborah Holmes, (202) 208-5745.

Stephen Hardgrove—Chief of Staff.

Kimberly Elmore—Assistant Inspector General for Audits, Inspections and Evaluations.

Robert Romanyshyn—Deputy Assistant Inspector General for Financial Audits.

John Dupuy—Assistant Inspector General for Investigations.

Renee Pettis—Assistant Inspector General for Management.

Eddie Saffarinia—Assistant Inspector General for Information Technology.

Bruce Delaplaine—General Counsel.

Roderick Anderson—Deputy Assistant Inspector General for Management.

Robert Knox—Assistant Inspector General for Recovery Oversight.

Department of Justice

Phone Number: (202) 514-3435.

CIGIE Liaison—Cynthia Schnedar, (202) 514-3435.

Cynthia Schnedar—Deputy Inspector General.

Raymond J. Beaudet—Assistant Inspector General for Audit.

Carol F. Ochoa—Assistant Inspector General for Oversight and Review.

Gregory T. Peters—Assistant Inspector General for Management and Planning.

Thomas F. McLaughlin—Assistant Inspector General for Investigations.

Michael D. Gulledge—Assistant Inspector General for Evaluation and Inspections.

Caryn A. Marske—Deputy Assistant Inspector General for Audit.

George L. Dorsett—Deputy Assistant Inspector General for Investigations.

Department of Labor

Phone Number: (202) 693-5100.

CIGIE Liaison—Christopher Seagle, (202) 693-5231.

Daniel R. Petrole—Acting Inspector General.

Nancy F. Ruiz de Gamboa—Assistant Inspector General for Management and Policy.

Thomas F. Farrell—Assistant Inspector General for Labor Racketeering and Fraud Investigations. Elliot P. Lewis—Assistant Inspector General for Audit.

Michael A. Raponi—Deputy Assistant Inspector General for Audit.

Richard Clark—Deputy Assistant Inspector General for Labor Racketeering and Fraud Investigations.

Asa E. Cunningham—Assistant Inspector General for Inspections and Special Investigations.

Department of State and the Broadcasting Board of Governors

Phone Number: (202) 663-0340.

CIGIE Liaison—Michael Wolfson, (703) 284-2710.

Robert B. Peterson—Assistant Inspector General for Inspections.

Evelyn R. Klemstine—Deputy Assistant Inspector General for Audits.

Department of Transportation

Phone Number: (202) 366-1959.

CIGIE Liaison—Nathan P. Richmond, (202) 366-1959.

Calvin L. Scovel III—Inspector General.

Ann M. Calvaressi Barr- Deputy Inspector General.

Brian A, Dettelbach—Assistant Inspector General for Legal, Legislative, and External Affairs.

Susan L. Dailey—Assistant Inspector General for Administration.

Lou E. Dixon—Principal Assistant Inspector General for Auditing and Evaluation.

Jeffrey B. Guzzetti—Assistant Inspector for Aviation and Special Program Audits.

Mitchell L. Behm—Assistant Inspector General for Amtrak, High Speed Rain and Economic Analysis.

Matthew E. Hampton—Deputy Assistant Inspector General for Aviation and Special Program Audits.

Rebecca C. Leng—Assistant Inspector General for Financial and Information Technology Audits.

Joseph W. Come—Assistant Inspector General for Surface and Maritime Programs.

Rosalyn G. Millman—Deputy Assistant Inspector General for Surface and Maritime Programs.

Department of the Treasury

Phone Number: (202) 622-1090.

CIGIE Liaison—John Czajkowski, (202) 927-5835.

Dennis S. Schindel—Deputy Inspector General.

Richard K. Delmar—Counsel to the Inspector General.

John Czajkowski—Assistant Inspector General for Management.

P. Brian Crane—Assistant Inspector General for Investigations.

Maria A. Freedman—Assistant Inspector General for Audit.

Robert A. Taylor—Deputy Assistant Inspector General for Audit (Program Audits).

Joel Grover—Deputy Assistant Inspector General for Audit (Financial Management Audits).

Treasury Inspector General for Tax Administration/Department of the Treasury

Phone Number: (202) 622-6500.

CIGIE Liaison—Roderick Fillinger, (202) 622-3139.

Roderick Fillinger—Chief Counsel.

Joseph Hungate, Ill—Principal. Deputy Inspector General.

Michael Phillips—Deputy Inspector General for Audit.

Margaret Begg—Assistant Inspector General for Audit (Compliance and Enforcement Operations).

Timothy Camus—Assistant Inspector General for Investigations.

Michael Delgado—Assistant Inspector General for Investigations.

Alan Duncan—Assistant Inspector General for Audit (Security & Information Technology Services).

John Fowler—Deputy Assistant Inspector General for Investigations.

David Holmgren—Deputy Inspector General for Inspections and Evaluations.

Steven Jones—Deputy Inspector General for Investigations.

Larry Koskinen—Associate Inspector General for Mission Support.

Mike McKenney—Assistant Inspector General for Audit (Returns Processing and Account Services).

Nancy Nakamura—Assistant Inspector General for Audit (Headquarters Operations and Exempt Organizations).

Department of Veterans Affairs

Phone Number: (202) 461-4720.

CIGIE Liaison—Joanne Moffett, (202) 461-4720.

Richard Griffin—Deputy Inspector General.

Maureen Regan—Counselor to the Inspector General.

James O'Neill—Assistant Inspector General for Investigations.

Joseph Sullivan—Deputy Assistant Inspector General for Investigations (Field Operations).

Joseph Vallowe—Deputy Assistant Inspector General for Investigations (HQs Operations).

Belinda Finn—Assistant Inspector General for Audits and Evaluations.

Linda Halliday—Deputy Assistant Insepctor General for Audits and Evaluations (Field Operations).

Sondra McCauley—Deputy Assistant Inspector General for Audits and Evaluations (HQs Management and Inspections).

Richard Ehrlichman—Assistant Inspector General for Management and Administration.

Dana Moore—Deputy Assistant Inspector General for Management and Administration.

John Daigh—Assistant Inspector General for Healthcare Inspections.

Patricia Christ—Deputy Assistant Inspector General for Healthcare Inspections.

Environmental Protection Agency

Phone Number: (202) 566-0847.

CIGIE Liaison—Eileen McMahon, (202) 566-2546.

Bill A. Roderick—Deputy Inspector General.

Mark Bialek—Associate Deputy Inspector General and Counsel to the Inspector General.

Eileen McMahon—Assistant Inspector General for Congressional, Public Affairs and Management.

Melissa Heist—Assistant Inspector General for Audit.

Wade Najjum—Assistant Inspector General for Program Evaluation.

Stephen Nesbitt—Assistant Inspector General for Cyber Investigations and Homeland Security.

Patricia Hill—Assistant Inspector General for Mission Systems.

Federal Trade Commission

Phone Number: (202) 326—2800.

CIGIE Liaison—Cynthia Hogue, (202) 326-2800.

John Seeba—Inspector General.

General Services Administration

Phone Number: (202) 501-0450.

CIGIE Liaison—Sarah S. Breen, (202) 219-1351.

Robert C. Erickson—Deputy Inspector General.

Richard P. Levi—Counsel to the Inspector General.

Theodore R. Stehney—Assistant Inspector General for Auditing.

Regina M. O'Brien—Deputy Assistant Inspector General for Auditing.

Gregory G. Rowe—Assistant Inspector General for Investigations.

Geoffrey Cherrington—Deputy Assistant Inspector General for Investigations.

National Aeronautics and Space Administration

Phone Number: (202) 358-1220.

CIGIE Liaison—Renee Juhans, (202) 358-1712.

Gail Robinson—Deputy Inspector General.

Frank LaRocca—Counsel to the Inspector General.

Kevin Winters—Assistant Inspector General for Investigations.

Alan Lamoreaux—Assistant Inspector General for Management and Planning.

National Archives and Records Administration

Phone Number: (301) 837-3000.

CIGIE Liaison—John Simms, (301) 837-1966.

Paul Brachfeld—Inspector General.

National Endowment for the Humanities

Phone Number: (202) 606-8350.

CIGIE Liaison—Laura M.H. Davis, (202) 606-8574.

Sheldon Bemstein—Inspector General.

National Science Foundation

Phone Number: (703) 292-7100.

CIGIE Liaison—Susan Carnohan, (703) 292-5011 and Maury Pully, (703) 292-5059.

Allison C. Lerner—Inspector General.

Thomas (Tim) Cross—Deputy Inspector General.

Brett M. Baker—Assistant Inspector General for Audit.

Peggy Fischer—Assistant Inspector General for Investigations.

Peace Corps

Phone Number: (202) 692-2900.

CIGIE Liaison—Joaquin Ferrao (202) 692-2921.

Kathy Buller—Inspector General (Foreign Service).

Nuclear Regulatory Commission

Phone Number: (301) 415-5930.

CIGIE Liaison—Deborah S. Huber, (301) 415-5930.

David C. Lee—Deputy Inspector General.

Stephen D. Dingbaum—Assistant Inspector General for Audits.

Joseph A. McMillan—Assistant Inspector General for Investigations.

Office of Personnel Management

Phone Number: (202) 606-1200.

CIGIE Liaison—Joyce D. Price, (202) 606-2156.

Norbert E. Vint—Deputy Inspector General.

Tern Fazio—Assistant Inspector General for Management.

Michael R. Esser—Assistant Inspector General for Audits.

J. David Cope—Assistant Inspector General for Legal Affairs.

Jeffery E. Cole—Deputy Assistant Inspector General for Audits.

Railroad Retirement Board

Phone Number: (312) 751-4690.

CIGIE Liaison—Jill Roellig (312) 751-4993.

William Tebbe—Assistant Inspector General for Investigations.

Small Business Administration

Phone Number: (202) 205-6586.

CIGIE Liaison—Robert F. Fisher (202) 205-6583.

Peter L. McClintock—Deputy Inspector General.

Glenn P. Harris—Counsel to the Inspector General.

Debra S. Rift—Assistant Inspector General for Auditing.

Daniel J. O'Rourke—Assistant Inspector General for Investigations.

Robert F. Fisher—Assistant Inspector General for Management and Policy.

Social Security Administration

Phone Number: (410) 966-8385.

CIGIE Liaison—Misha Kelly (202) 358-6319.

Gale Stone—Deputy Assistant Inspector General for Audit.

B. Chad Bungard—Counsel to the Inspector General.

Steve Mason—Deputy Assistant Inspector General for Investigations.

Michael Robinson—Assistant Inspector General for Technology and Resource Management.

Special Inspector General for Troubled Asset Relief Program

Phone Number: (202) 622-2658.

CIGIE Liaison—(202) 622-2658.

Kevin Puvalowski—Regional Director (Acting Deputy Special Inspector General).

Bryan Saddler—Chief Counsel.

Christy Romero—Chief of Staff.

Eileen Ennis—Deputy Special Inspector General, Operations.

Christopher Sharpley—Deputy Special Inspector General, Investigations.

Kurt Hyde—Deputy Special Inspector General, Audit.

Timothy Lee—Senior Policy Analyst.

United States Postal Service

Phone Number: (703) 248-2100.

CIGIE Liaison—Agapi Doulaveris, (703) 248-2286.

Elizabeth Martin—General Counsel.

Gladis Griffith—Deputy General Counsel.

Ron Stith—Assistant Inspector General, Mission Support.

Mary Demory—Deputy Assistant Inspector General—Business Operations.

LaVan Griffith—Deputy Assistant Inspector General—Investigative Support Services.

David Sidransky—Chief Information Officer.

William Siemer—Assistant Inspector General for Investigations.

Lance Carrington—Deputy Assistant Inspector General for Investigations—West.

Yvette Savoy—Deputy Assistant Inspector General for Investigations—North.

Tammy Whitcomb—Assistant Inspector General for Audits.

Robert Batta—Deputy Assistant Inspector General for Audits—Mission Operations.

John Cihota—Deputy Assistant Inspector General for Audits—Financial Accountability.

Darrell Benjamin—Deputy Assistant Inspector General for Audits—Revenue and Systems.

Mark Duda—Deputy Assistant Inspector General for Audits—Support Operations.

Mohammad Adra—Assistant Inspector General for Risk Analysis Research Center.

Dated: August 30, 2010.
Mark D. Jones,
Acting Executive Director, Council of the Inspectors General on Integrity and Efficiency.

[FR Doc. 2010-22691 Filed 9-13-10; 8:45 am]

BILLING CODE M